ENVIRONMENTAL PROTECTION AGENCY

[EPA-HQ-OLEM-2018-0646; FRL-13156-01-OMS]

Agency Information Collection Activities; Submission to OMB for Review and Approval; Comment Request Office of Management and Budget for Review and Approval; Comment Request; Safe Management of Recalled Airbags Rule (Renewal)

AGENCY: Environmental Protection Agency.

ACTION: Notice.

SUMMARY: The Environmental Protection Agency (EPA) has submitted an information collection request (ICR), Safe Management of Recalled Airbags Rule (EPA ICR Number 2589.06, OMB Control Number 2050-0221) to the Office of Management and Budget (OMB) for review and approval in accordance with the Paperwork Reduction Act. This is a proposed extension of the ICR, which is currently approved through December 31, 2025. Public comments were previously requested via the Federal Register on May 6, 2025 during a 60-day comment period. This notice allows for an additional 30 days for public comments.

DATES: Comments may be submitted on or before January 29, 2026.

ADDRESSES: Submit your comments, referencing Docket ID No. EPA-HQ-OLEM-2018-0646, to EPA online using www.regulations.gov (our preferred method) or by mail to: EPA Docket Center, U.S. Environmental Protection Agency, Mail Code 28221T, 1200 Pennsylvania Avenue NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Tracy Atagi, Environmental Protection Agency, 1200 Pennsylvania Ave. NW, Washington, DC 20460; telephone number: (202) 566-0511; email address: atagi.tracy@epa.gov.

SUPPLEMENTARY INFORMATION: This is a proposed extension of the ICR, which is currently approved through December 31, 2025. An agency may not conduct or sponsor and a person is not required to respond to a collection of information unless it displays a currently valid OMB control number.

Public comments were previously requested via the Federal Register on May 6, 2025 during a 60-day comment period (90 FR 19202). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The collection of information is necessary in order to ensure that the hazardous waste airbag modules and airbag inflators exempted under this rule are safely disposed of and that defective airbag modules and airbag inflators are not reinserted into vehicles where they would pose an unreasonable risk of death or serious injury. Information collection activities include maintaining at the airbag handler for no less than three years records of (1) all off-site shipments and (2) confirmations of receipt of airbag waste.

Form numbers: None.

Respondents/affected entities: Motor Vehicle and Parts Dealers.

Respondent's obligation to respond: Required to obtain or retain a benefit (sections 2002, 3001, 3002, 3003, 3004, 3006, 3010, and 3017 of the Solid Waste Disposal Act).

Estimated number of respondents: 15,431.

Frequency of response: On occasion.

Total estimated burden: 4,320 hours per year. Burden is defined at 5 CFR 1320.03(b).

Total estimated cost: $151,290 (per year), which includes $0 annualized capital or operation & maintenance costs.

Changes in the estimates: There is an increase of 71 hours in the burden estimates for this ICR due to an increase in the number of respondents.

Courtney Kerwin,
Deputy Director, Data and Enterprise Program Division.

[FR Doc. 2025-23973 Filed 12-29-25; 8:45 am]

BILLING CODE 6560-50-P